DEPARTMENT OF THE INTERIOR

Fish and Wildlife Service

Notice of Intent To Present for Public Review and Comment the Draft Comprehensive Conservation Plans for Lower Suwannee and Cedar Keys National Wildlife Refuges, Located in Dixie and Levy Counties, Florida, and Levy County, Florida, Respectively

SUMMARY: This notice advises the public that the U.S. Fish and Wildlife Service, Southeast Region, has made available for public review and comment the Draft Comprehensive Conservation Plan for each refuge. The Service plans to conduct a public meeting in the vicinity of the refuges to solicit public comments on the draft plans. The Service is furnishing this notice in compliance with its comprehensive conservation planning policy, the National Environmental Policy Act, and implementing regulations to achieve the following:

(1) Advise other agencies and the public of our intentions, and

(2) obtain comments on the proposed plans and other alternatives considered in the planning process.

DATES: The Service will hold the public meeting on Tuesday,June 5, 2001, at 7 p.m., at the Tommy Usher Center in Chiefland, Florida. The Center is located at 506 SW 4th Avenue (County Road 345).

ADDRESSES: Comments and requests for copies of the draft plans should be addressed to Mr. Kenneth Litzenberger, Refuge Manager, Lower Suwannee National Wildlife Refuge, 16450 NW 13th Place, Chiefland, Florida 32626, or by calling (352) 493-0238. Comments must be received by Friday, July 6, 2001, to be considered in the development of the final plan. Information concerning these refuges may be found at the following website: http://lowersuwannee.fws.gov

If you wish to comment, you may submit comments by any one of several methods. You may mail your comments to the above address.You may also comment via the Internet to the following address: K_Litzenberger@fws.gov. Please submit Internet comments as an ASCII file avoiding the use of special characters and any form of encryption. Please also include your name and return address in your Internet message. If you do not receive a confirmation from the system that we have received your Internet message, contact Kenneth Litzenberger directly at the above address. Finally, you may hand-deliver comments to Mr. Litzenberger at the above address. Our practice is to make comments, including names and home addresses of respondents, available for public review during regular business hours. Individual respondents may request that we withhold their home address from the rulemaking record, which we will honor to the extent allowable by law. There also maybe circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: Lower Suwannee National Wildlife Refuge, consisting of 53,000 acres, was established in 1979, to protect one of the largest remaining undeveloped estuaries in the country. The refuge encompasses 20 miles of habitat flanking both sides of the famous Suwannee River and more than 20 miles of pristine coastal marsh habitat. Lower Suwannee Refuge provides important habitat for bald eagles, swallow-tailed kites, gopher tortoises, manatees, sea turtles, and migratory birds.

Cedar Keys National Wildlife Refuge, consisting of 13 islands and more than 800 acres of pristine coastal barrier island habitat, was established in 1929, as a refuge for wading birds and wildlife. Four of the islands are designated wilderness areas. Seahorse Key is home to one of the largest colonial wading bird rookeries in North Florida and contains one of Florida's historic lighthouses, which is used for marine science education and research by the University of Florida.

Dated: April 17, 2001.
Judy L. Pulliam,
Acting Regional Director.

[FR Doc. 01-11358 Filed 5-4-01; 8:45 am]

BILLING CODE 4310-55-M